DEPARTMENT OF TRANSPORTATION

Surface Transportation Board

[STB Finance Docket No. 33978]

Summit View, Inc.—Acquisition of Control Exemption—Pittsburgh Industrial Railroad, Inc.

Summit View, Inc. (Summit), a noncarrier holding company, has filed a notice of exemption to acquire control, through stock purchase of the Pittsburgh Industrial Railroad, Inc. (PIRR), a Class III rail carrier, operating in the State of Pennsylvania.¹ PIRR is a wholly owned subsidiary of Railtex, Inc.²

¹ See Pittsburgh Industrial Railroad, Inc.—Acquisition and Operation Exemption—Consolidated Rail Corporation and the Pittsburgh, Chartiers and Youghiogheny Railway Company, STB Finance Docket No. 33308 (STB served Dec. 27, 1996).

² See Railtex, Inc.—Continuance in Control Exemption—Pittsburgh Industrial Railroad, Inc., STB Finance Docket No. 33309 (STB served Dec. 27, 1996).

The transaction was scheduled to be consummated on or shortly after December 19, 2000.

Summit currently controls seven existing Class III rail carriers: Ohio Central Railroad, Inc.; Ohio Southern Railroad, Inc.; Austintown Railroad, Inc.; Warren & Trumbull Railroad; Columbus & Ohio River Railroad Company, Ohio Pennsylvania Railroad Company, and Youngstown Belt Railroad Company.

Summit states that: (i) The railroads do not connect with each other; (ii) the transaction is not part of a series of anticipated transactions that would connect the railroads with each other; and (iii) the transaction does not involve a Class I carrier. Therefore, the transaction is exempt from the prior approval requirements of 49 U.S.C. 11323. See 49 CFR 1180.2(d)(2).

Under 49 U.S.C. 10502(g), the Board may not use its exemption authority to relieve a rail carrier of its statutory obligation to protect the interests of its employees. Section 11326(c), however, does not provide for labor protection for transactions under sections 11324 and 11325 that involve only Class III rail carriers. Because this transaction involves Class III rail carriers only, the Board, under the statute, may not impose labor protective conditions for this transaction.

If the notice contains false or misleading information, the exemption is void ab initio. Petitions to revoke the exemption under 49 U.S.C. 10502(d) may be filed at any time. The filing of a petition to revoke will not automatically stay the transaction.

An original and 10 copies of all pleadings, referring to STB Finance Docket No. 33978, must be filed with the Surface Transportation Board, Office of the Secretary, Case Control Unit, 1925 K Street, N.W., Washington, DC 20423-0001. In addition, a copy of all pleadings must be served on Kelvin J. Dowd, Esq., Slover & Loftus, 1224 Seventeenth Street, N.W.,Washington, DC 20036.

Board decisions and notices are available on our website at http://WWW.STB.DOT.GOV.

Decided: January 4, 2001.
By the Board, David M. Konschnik, Director, Office of Proceedings.
Vernon A. Williams,
Secretary.

[FR Doc. 01-735 Filed 1-10-01; 8:45 am]

BILLING CODE 4915-00-P